DEPARTMENT OF DEFENSE

Office of the Secretary

[Transmittal Nos. 15-23]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 15-23 with attached transmittal, policy justification and 620C(d) document.

Dated: June 1, 2015.
Aaron Siegel,
Alternate OSD Federal Register Liaison Officer, Department of Defense.

Transmittal No. 15-23

Notice of Proposed Issuance of Letter of Offer Pursuant to Section 36(b)(1) of the Arms Export Control Act, as amended

(i) Prospective purchaser: Turkey

(ii) Total Estimated Value

Major Defense Equipment * | $238 million
Other | $ 72 million
Total | $310 million

(iii) Description and Quantity or Quantities of Articles or Services under Consideration for Purchase: Four (4) MK 15 Phalanx Close-In Weapons System (CIWS) Block 1B Baseline 2 systems and the overhaul, upgrade, and conversion of seventeen (17) MK 15 Phalanx CIWS Block 0 systems to the Block 1B Baseline 2 configuration. Also included are twenty one (21) Remote Control Stations, twenty one (21) Local Control Stations, spare and repair parts, support and test equipment, personnel training and training equipment, publications and technical documentation, U.S. Government and contractor engineering, technical, and logistics support services, and other related elements of program and ogistics support.

(iv) Military Department: Navy (LLI)

(v) Prior Related Cases: None

(vi) Sales Commission, Fee, etc., Paid, Offered, or Agreed to be Paid: None

(vii) Sensitivity of Technology Contained in the Defense Article or Defense Services Proposed to be Sold: None

* as defined in Section 47(6) of the Arms Export Control Act.

(viii) Date Report Delivered to Congress: 20 May 2015.

POLICY JUSTIFICATION

Turkey—MK 15 Phalanx CIWS Upgrades

The Republic of Turkey has requested a possible sale for four (4) MK 15 Phalanx Close-In Weapons System (CIWS) Block 1B Baseline 2 systems and the overhaul, upgrade, and conversion of seventeen (17) MK 15 Phalanx CIWS Block 0 systems to the Block 1B Baseline 2 configuration. Also included are twenty one (21) Remote Control Stations, twenty one (21) Local Control Stations, spare and repair parts, support and test equipment, personnel training and training equipment, publications and technical documentation, U.S. Government and contractor engineering, technical, and logistics support services, and other related elements of program and logistics support. The estimated cost is $310 million.

Turkey is a partner of the United States in ensuring peace and stability in the region. It is vital to the U.S. national interest to assist our NATO ally in developing and maintaining a strong and ready self-defense capability. This proposed sale is consistent with those objectives.

The proposed sale will provide the Turkish Navy with enhanced self-defense capabilities for surface combatants supporting both national and multinational naval operations. The sale will extend the life of existing weapons systems and add four new weapons to Turkey's two future Landing Ships Tank (LST) vessels. Turkey has significant experience in maintaining and supporting CIWS, particularly MK 15 Phalanx CIWS Block 0, and has capable infrastructure that will require minimal updates.

The proposed sale of this equipment and support will not alter the basic military balance in the region.

The principal contractor will be Raytheon Missile Systems in Tucson, Arizona. The purchaser has requested offsets. At this time, agreements are undetermined and will be defined in negotiations between the purchaser and contractor.

Implementation of this proposed sale will not require the assignment of any additional U.S. Government or contractor representatives to Turkey. However, Contractor Engineering and Technical Services (CETS) may be required on an interim basis for installations and integration.

There will be no adverse impact on U.S. defense readiness as a result of this proposed sale.

[FR Doc. 2015-13626 Filed 6-3-15; 8:45 am]

BILLING CODE 5001-06-P